DEPARTMENT OF THE INTERIOR

National Park Service

[NPS-WASO-BSD-FEES-NPS0033965; PX.XBSAD0113.00.1 (211); OMB Control Number 1024-0252]

Agency Information Collection Activities; The Interagency Access Pass and Senior Pass Application Processes

AGENCY: National Park Service, Interior.

ACTION: Notice of information collection; request for comment.

SUMMARY: In accordance with the Paperwork Reduction Act of 1995, we, the National Park Service (NPS) are proposing to revise an information collection.

DATES: Interested persons are invited to submit comments on or before December 27, 2022.

ADDRESSES: Please provide a copy of your comments to the NPS Information Collection Clearance Officer (ADIR-ICCO), 12201 Sunrise Valley Drive, (MS-242) Reston, VA 20191 (mail); or phadrea_ponds@nps.gov (email). Please reference OMB Control Number 1024-0252 in the subject line of your comments.

FOR FURTHER INFORMATION CONTACT: To request additional information about this ICR, contact Linda Thurn, Interagency Pass Program Manager, National Park Service by email at linda_thurn@nps.gov; or by telephone at 202 513-7095. Please reference OMB Control Number 1024-0252 in the subject line of your comments. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the Federal Lands Recreation Enhancement Act (FLREA; 16 U.S.C. 6801-6814), the America the Beautiful—National Parks and Federal Recreation Lands Pass Program provides recreation opportunities on public lands managed by four Department of the Interior agencies: the National Park Service, U.S. Fish and Wildlife Service, Bureau of Land Management, and the Bureau of Reclamation in addition to the Department of Agriculture's U.S. Forest Service and the U.S. Army Corps of Engineers. This program manages the application process and distribution of passes to provide visitors with an affordable and convenient way to access Federal recreation lands. The pass program's proceeds are used to improve and enhance visitor recreation services.

NPS Form 10-596, “Interagency Access Pass” is a free, lifetime pass issued to citizens or residents who are domiciled in the United States, regardless of age, who have a medical determination and documentation of permanent disability. Ordering an Access Pass requires a complete application, proof of residency, documentation that proves permanent disability, and payment of the $5 processing fee, plus actual shipping costs. Passes can be obtained in person from a participating Federal recreation site or office, through the mail, or on-line via the U.S. Geological Survey (USGS) store at https://store.usgs.gov/access-pass.

If a person arrives at a recreation site and claims eligibility for the Interagency Access Pass, but cannot produce any documentation, that person must read, sign, and date NPS Form 10-597, “Statement of Disability” in the presence of the agency officer issuing the Interagency Access Pass. If the applicant cannot read and/or sign the form, someone else may read, date, and sign the statement on his/her behalf in the applicant's presence and in the presence of the agency officer issuing the Interagency Access Pass.

NPS Form 10-595, “Interagency Senior Pass” is a pass issued to U.S. citizens or permanent residents who are 62 years or older. Senior Passes may be issued on a lifetime or annual basis. Both types of the Senior Pass can be purchased at any federal recreation site, including national parks, that charges an entrance or standard amenity (day-use) fee; online or through the mail from USGS. Ordering a Senior Pass requires a complete application, proof of residency, payment ($20 for Annual Senior or $80 for Lifetime Senior Pass, plus $5 processing fee, and shipping costs. Passes can be obtained in person from a participating Federal recreation site or office, through the mail, via the U.S. Geological Survey (USGS) store at https://store.usgs.gov/senior-pass.

Agency websites provide information on the passes and acceptable documentation. All documentation submitted in person or through the mail is returned to the applicant or destroyed after the form is processed.

Title of Collection: The Interagency Access Pass and Senior Pass Application Processes.

OMB Control Number: 1024-0252.

Form Number: NPS Forms 10-595, 10-596, and 10-597.

Type of Review: Extension of a currently approved collection.

Respondents/Affected Public: Individuals, organizations, businesses, and State, local, or tribal governments.

Total Estimated Number of Annual Respondents: 212,000.

Total Estimated Number of Annual Responses: 212,000.

Estimated Completion Time per Response: Varies from 5 minutes to 10 minutes, depending on activity.

Total Estimated Number of Annual Burden Hours: 22,667.

Respondent's Obligation: Required to obtain or retain a benefit.

Frequency of Collection: On occasion.

Total Estimated Annual Nonhour Burden Cost: $666,000 (mail-in applicants—application fee, mailing and processing).

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-23511 Filed 10-27-22; 8:45 am]

BILLING CODE 4312-52-P